DEPARTMENT OF ENERGY

Federal Energy Regulatory Commission

18 CFR Part 39

[Docket No. RM15-25-000]

Availability of Certain North American Electric Reliability Corporation Databases to the Commission

January 18, 2017.

AGENCY: Federal Energy Regulatory Commission, DOE.

ACTION: Notice of compliance date.

SUMMARY: This document provides notice of the compliance date for the amended regulations adopted in the final rule issued by the Federal Energy Regulatory Commission (Commission) in Docket No. RM15-25-000, requiring the North American Electric Reliability Corporation (NERC) to provide the Commission with access to certain databases compiled and maintained by NERC.

DATES: The date for compliance with the amended regulations adopted in Docket No. RM15-25-000 is February 21, 2017.

FOR FURTHER INFORMATION CONTACT:

Raymond Orocco-John (Technical Information), Office of Electric Reliability, Federal Energy Regulatory Commission, 888 First Street NE., Washington, DC 20426, Telephone: (202) 502-6593, Raymond.Orocco-John@ferc.gov.

Julie Greenisen (Legal Information), Office of the General Counsel, Federal Energy Regulatory Commission, 888 First Street NE., Washington, DC 20426, Telephone: (202) 502-6362, julie.greenisen@ferc.gov.

SUPPLEMENTARY INFORMATION: On June 16, 2016, the Commission issued a final rule amending its regulations to require NERC to provide the Commission, and Commission staff, with access to certain databases compiled and maintained by NERC.¹ The compliance date for the new regulation was deferred based on issuance of the final rule in a related rulemaking, Commission Docket No. RM16-15-000. The final rule in the related proceeding has now been issued and was published in the Federal Register on December 21, 2016, to become effective February 21, 2017. This document provides notice of the corresponding date for compliance with the regulations adopted in Docket No. RM15-25-000.

¹ Availability of Certain North American Electric Reliability Corporation Databases to the Commission, Order No. 824, 155 FERC ¶ 61,275 (2016).

Kimberly D. Bose,
Secretary.

[FR Doc. 2017-02228 Filed 2-1-17; 8:45 am]

BILLING CODE 6717-01-P